Notice of November 9, 2016

Continuation of the National Emergency With Respect to Burundi

On November 22, 2015, by Executive Order 13712, I declared a national emergency to deal with the unusual and extraordinary threat to the national security and foreign policy of the United States constituted by the situation in Burundi, which has been marked by the killing of and violence against civilians, unrest, the incitement of imminent violence, and significant political repression, and which threatens the peace, security, and stability of Burundi.

The situation in Burundi continues to pose an unusual and extraordinary threat to the national security and foreign policy of the United States. For this reason, the national emergency declared on November 22, 2015, to deal with that threat must continue in effect beyond November 22, 2016. Therefore, in accordance with section 202(d) of the National Emergencies Act (50 U.S.C. 1622(d)), I am continuing for 1 year the national emergency declared in Executive Order 13712.

This notice shall be published in the Federal Register and transmitted to the Congress.

THE WHITE HOUSE,

November 9, 2016.

[FR Doc. 2016-27498

Filed 11-10-16; 11:15 am]

Billing code 3295-F7-P